DEPARTMENT OF HOMELAND SECURITY

Coast Guard

[CGD01-06-016]

Implementation of Sector Southeastern New England

AGENCY: Coast Guard, DHS.

ACTION: Notice of organizational change.

SUMMARY: This notice explains the details associated with the establishment of Sector Southeastern New England. The date on which the boundaries of the areas of responsibility discussed herein shifted was February 28, 2006, the date of the official stand-up of Sector Southeastern New England. The Sector Commander has the authority, responsibility, and missions of Group Woods Hole, Captain of the Port (COTP) and Marine Safety Office Providence in the zone identified in this notice. The Coast Guard has established continuity of operations whereby all previous practices and procedures will remain in effect until superseded by an authorized Coast Guard official or document.

DATES: The effective date of the Sector stand-up was February 28, 2006.

ADDRESSES: Documents associated with this notice are part of docket CGD01-06-016 and are available for inspection or copying at Commander, First Coast Guard District (dm), 8th Floor, 408 Atlantic Ave., Boston, MA 02110, between 7:30 a.m. and 4:30 p.m., Monday through Friday, except Federal holidays.

FOR FURTHER INFORMATION CONTACT: The First Coast Guard District Resource and Performance Management Office at (617) 223-8248, between 7 a.m. and 3:30 p.m., Monday through Friday, except Federal holidays.

SUPPLEMENTARY INFORMATION:

Discussion of Notice

This notice confirms the stand-up of Sector Southeastern New England. This is the final Sector being established in the First Coast Guard District. Information concerning the stand-up of other Sectors within the First Coast Guard District was published via a similar Notice of Organizational Change in the Federal Register on June 27, 2005 (70 FR 36942).

The boundaries of the areas of responsibility for Sector Southeastern New England discussed herein changed on the date of stand-up, February 28, 2006. The restructuring described in this notice is internal to the Coast Guard. The purpose of this organizational change is to strengthen unity of command in our port, waterway and coastal areas of operation.

Sector Southeastern New England will contain a single integrated command center, which provides a common operating picture. The Sector is composed of three departments, namely: The Response Department, the Prevention Department, and the Logistics Department.

The Search and Rescue (SAR) boundary formally associated with Group Woods Hole has been changed to align with the Marine Inspection and COTP zone formerly associated with Marine Safety Office Providence, as described in this notice. The new Sector's area of responsibility for SAR will be maintained in accordance with the District SAR Plan.

The Sector Commander is vested with all the rights, responsibilities, duties, and authority of a Group Commander and a Commanding Officer, Marine Safety Office, as provided for in Coast Guard regulations, and is the successor in command to the Commanding Officer of Marine Safety Office Providence and the Commander of Group Woods Hole. The Sector Southeastern New England Commander is designated: (a) Captain of the Port (COTP); (b) Federal Maritime Security Coordinator (FMSC); (c) Federal On-Scene Coordinator (FOSC) consistent with the National Contingency Plan; (d) Officer In Charge, Marine Inspection (OCMI); and (e) Search and Rescue Mission Coordinator (SMC).

The First District Commander may also designate the Sector Commander as mission coordinator for search and rescue and law enforcement operations beyond the exclusive economic zone. The Deputy Sector Commander has been designated alternate COTP, FMSC, FOSC, SMC, and acting OCMI. A separate continuity of operations order has been issued providing that all previous Marine Safety Office and Group practices and procedures will remain in effect until superseded by the Sector Commander. The continuity of operations order addresses existing COTP regulations, orders, directives and policies.

Sector Southeastern New England (Sector SENE) is located at Little Harbor Rd., Woods Hole, Massachusetts. Sector SENE is responsible for all Coast Guard missions in the following Marine Inspection and Captain of the Port Zone. The zone starts on the Massachusetts coast at Manomet Point at 41°55′ N latitude, 70°33′ W longitude and proceeds northeast to 42°08′ N latitude 70°15′ W longitude; thence east along 42°08′ N latitude to the outermost extent of the EEZ; thence southerly along the outermost extent of the EEZ to a line bearing 132° T from Watch Hill Light, Rhode Island; thence northwest along a line bearing 132° T from Watch Hill Light, Rhode Island, to Watch Hill Light; thence northeast to 41°21′ N latitude, 71°48.5′ W longitude at Westerly, Rhode Island; thence north to 41°25′ N latitude, 71°48′ W longitude; thence north along the Connecticut-Rhode Island boundary, including the waters of Beach Pond, to the Massachusetts boundary; thence east along the Massachusetts-Rhode Island boundary to 42°01.5′ N latitude, 71°28.0′ W longitude; thence east to 42°04′ N latitude, 71°06′ W longitude; thence southeasterly to the point of origin.

All existing missions and functions performed by MSO Providence, and Group Woods Hole have been realigned under this new organizational structure as of February 28, 2006, and MSO Providence, and Group Woods Hole no longer exist as separate organizational entities.

The following is updated address and point of contact information to facilitate requests from the public:

Name: Sector Southeastern New England.

Address: Commander, U.S. Coast Guard Sector Southeastern New England, 1 Little Harbor Road, Woods Hole, MA 02543-1099.

Contact: General Number, (508) 457-3272.

Dated: March 12, 2006.
David P. Pekoske,
Rear Admiral, U.S. Coast Guard, Commander, First Coast Guard District.

[FR Doc. E6-4096 Filed 3-21-06; 8:45 am]

BILLING CODE 4910-15-P